DEPARTMENT OF AGRICULTURE

Forest Service

Warm Spring Habitat Enhancement EIS—Helena-Lewis and Clark National Forest, Jefferson County, Montana

AGENCY: Forest Service, USDA.

ACTION: Withdrawal of Notice of Intent to prepare an Environmental Impact Statement.

SUMMARY: The USDA Forest Service is withdrawing the Notice of Intent to prepare an Environmental Impact Statement for the Warm Spring Habitat Enhancement project on the Helena-Lewis and Clark National Forest. A Notice of Intent to prepare an Environmental Impact Statement was published in the Federal Register on October 9, 2009 (pages 52174-52175)

FOR FURTHER INFORMATION CONTACT: Jennifer Woods, Helena-Lewis and Clark National Forest, 1220 38th Street North, Great Falls, Montana 59405, (406) 791-7765.

Dated: September 14, 2016.
William Avey,
Forest Supervisor, Helena-Lewis and Clark National Forest.

[FR Doc. 2016-22702 Filed 9-23-16; 8:45 am]

BILLING CODE 3410-11-P